DEPARTMENT OF ENERGY

Western Area Power Administration

DEPARTMENT OF THE INTERIOR

Fish and Wildlife Service

Notice of Availability for Upper Great Plains Wind Energy Final Programmatic Environmental Impact Statement (DOE/EIS-0408)

AGENCY: Western Area Power Administration, DOE, and U.S. Fish and Wildlife Service, DOI.

ACTION: Notice of Availability.

SUMMARY: The Western Area Power Administration (Western) and the U.S. Fish and Wildlife Service (Service), joint lead agencies, announce the availability of the Upper Great Plains Wind Energy Final Programmatic Environmental Impact Statement (Final PEIS) (DOE/EIS-0408). The Final PEIS evaluates issues and environmental impacts associated with wind energy development within Western's Upper Great Plains Customer Service Region (UGP Region) and upon the Service's landscape-level grassland and wetland easements. The area covered by the PEIS encompasses all or parts of the states of Iowa, Minnesota, Montana, Nebraska, North Dakota, and South Dakota that fall within the UGP Region boundaries. In response to an increase in wind energy development, Western and the Service have interests in streamlining their procedures for conducting environmental reviews of wind energy applications by implementing standardized evaluation procedures and identifying measures to address potential environmental impacts associated with wind energy projects in the UGP Region. The U.S. Department of the Interior, Bureau of Reclamation (Reclamation) and Bureau of Indian Affairs (BIA), and the U.S. Department of Agriculture, Rural Utility Services (RUS), have participated as cooperating agencies. The Final PEIS and related project information is available on the project Web site at http://plainswindeis.anl.gov.

DATES: The Final PEIS will be publically available for at least 30 days before either agency makes its decision and issues its separate Record of Decision. The 30 days begin when the Environmental Protection Agency files its Notice of Availability (NOA) in the Federal Register, which should be concurrent with the publication of this NOA by the joint lead agencies. Both agencies will publish their Records of Decision in the Federal Register, once issued.

ADDRESSES: Western and the Service encourage interested parties to access the Final PEIS on the project Web site at http://plainswindeis.anl.gov. Copies of the Final PEIS on CD can be obtained from Mark Wieringa, NEPA Document Manager, Western Area Power Administration, P.O. Box 281213, Lakewood, CO 80228-8213, telephone (800) 336-7288, facsimile (720) 962-7269, email wieringa@wapa.gov.

FOR FURTHER INFORMATION CONTACT: For information on Western's proposed programmatic environmental evaluation procedures for wind energy project interconnections, and general information about interconnections with Western's transmission system, contact Matt Marsh, Regional Environmental Manager, Upper Great Plains Customer Service Region, Western Area Power Administration, P.O. Box 35800, Billings, MT 59107-5800, telephone (406) 255-2810, facsimile (406) 255-2900, email mmarsh@wapa.gov. For information on the PEIS process, or to receive a copy of the Final PEIS, contact Mark Wieringa, NEPA Document Manager, Western Area Power Administration, P.O. Box 281213, Lakewood, CO 80228-8213, telephone (800) 336-7288, facsimile (720) 962-7269, email wieringa@wapa.gov.

For information on the Service's participation in the PEIS, contact Dave Azure, U.S. Fish and Wildlife Service, Arrowwood National Wildlife Refuge, 7780 10th Street SE., Pingree, ND 58476, telephone (701) 285-3341 ext. 107, facsimile (701) 285-3350, email Dave_Azure@fws.gov.

For general information on the DOE NEPA process, please contact Carol M. Borgstrom, Director, Office of NEPA Policy and Compliance (GC-54), U.S. Department of Energy, 1000 Independence Avenue SW., Washington, DC 20585, telephone (202) 586-4600 or (800) 472-2756.

SUPPLEMENTARY INFORMATION: Western and the Service, joint lead agencies, announce the availability of the Upper Great Plains Wind Energy Final PEIS (DOE/EIS-0408). In response to an increase in wind energy development, Western and the Service have interests in streamlining their procedures for conducting environmental reviews of wind energy applications by implementing standardized evaluation procedures and identifying measures to address potential environmental impacts associated with wind energy projects in the UGP Region, which encompasses all or parts of the states of Iowa, Minnesota, Montana, Nebraska, North Dakota, and South Dakota. Since formalizing the process and procedures for environmental reviews would be Federal actions, Western and the Service prepared the PEIS in accordance with the National Environmental Policy Act of 1969 (NEPA) (42 U.S.C. 4321-4347), as amended, and the Council on Environmental Quality (CEQ) NEPA regulations (40 CFR parts 1500-1508). Western and the Service agreed to be joint lead agencies, as provided for under NEPA and CEQ regulations (40 CFR 1501.5(b)). Reclamation, BIA, and RUS have participated in the development of the PEIS as cooperating agencies.

Western and the Service have cooperatively prepared the PEIS to: (1) Assess the potential environmental impacts associated with wind energy projects within the UGP Region that may interconnect to Western's transmission system, or that may propose placement of project elements on grassland or wetland easements managed by the Service, and (2) evaluate how environmental impacts would differ under alternative sets of environmental evaluation procedures, best management practices, avoidance strategies, and mitigation measures that the agencies would request project developers to implement, as appropriate for specific wind energy projects.

The objective of the PEIS is to proactively strengthen and streamline the environmental review process by having already analyzed and addressed general environmental concerns while specifically providing for Endangered Species Act (ESA) compliance for wind development projects that incorporate design elements to reduce impacts. The PEIS analyzes, to the extent practicable, the impacts resulting from development of wind energy projects and the effectiveness of best management practices, avoidance of sensitive areas, and mitigation measures in reducing potential impacts. Impacts and mitigation have been analyzed for each environmental resource, and all components of wind energy projects have been addressed, including turbines, transformers, collector lines, overhead lines, access roads, substation installations, and operational and maintenance activities. Many of the impacts resulting from constructing and operating these types of wind energy infrastructure are well known from existing wind energy generation developments. The environmental procedures and mitigation strategies developed have been structured to complement Western's Open Access Transmission Service Tariff, which also includes environmental review provisions.

The PEIS collected and analyzed this information as it applies to wind energy development in the six states included in the UGP Region. Specifically, through the PEIS Western and the Service have:

1. Defined areas with a high potential for wind energy development near the UGP Region's transmission system in anticipation of future wind-generation interconnection requests.

2. Defined natural and human environment resources in areas with high wind energy development potential, including Native American lands, to support analyses of the environmental impacts and development of wind energy projects.

3. Identified standardized environmental evaluation procedures, avoidance areas, best management practices, and mitigation measures to be used by interconnection applicants for identifying and reducing wind energy development impacts of their projects on the natural and human environment.

4. Initiated a programmatic ESA Section 7 informal consultation for federally listed and proposed threatened and endangered species within the study area boundaries established for the PEIS that may be affected by future wind energy development.

5. Provided guidance for interconnection applicants that includes information about natural resources within areas with a high potential for wind development, requirements for subsequent site-specific environmental reviews, avoidance areas, and appropriate best management practices and mitigation measures to address adverse environmental impacts related to wind projects and associated transmission system enhancements.

The Service maintains a grassland and wetland easement program to support and enhance waterfowl populations in the Prairie Pothole Region. The Service has developed a plan that will, in some circumstances, allow partial release of an easement for wind generation purposes, only with defined conditions and on a specified area, in exchange for additional easement acreage being conveyed to the Service. A streamlined approach for compliance with NEPA and ESA for future site-specific wind development projects would result from this PEIS, and would benefit both agencies.

Western and the Service are engaged in informal consultation under Section 7 of the ESA in support of the PEIS process. A Programmatic Biological Assessment has been prepared for listed and candidate species occurring in the UGP Region, and it is expected that the Service's Ecological Services Field Office will issue a letter of concurrence as a result of this consultation.

Separate Records of Decision addressing each agency's Federal actions will be issued by Western and the Service not sooner than 30 days after distribution of the Final PEIS and the date of the Environmental Protection Agency's weekly Federal Register notice listing the availability of the EIS.

Dated: April 21, 2015.
Mark A. Gabriel,
Administrator, Western Area Power Administration.
Dated: January 28, 2015.
Matt Hogan,
Deputy Regional Director, Mountain-Prairie Region, U.S. Fish and Wildlife Service.

[FR Doc. 2015-10237 Filed 4-30-15; 8:45 am]

BILLING CODE 6450-01-P